FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The applications will also be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States.

Unless otherwise noted, comments regarding each of these applications must be received at the Reserve Bank indicated or the offices of the Board of Governors not later than February 28, 2019.

A. Federal Reserve Bank of New York (Ivan Hurwitz, Vice President) 33 Liberty Street, New York, New York 10045-0001. Comments can also be sent electronically to Comments.applications@ny.frb.org:

1. NBC Bancorp, Inc.; to become a bank holding company by acquiring 100 percent of the voting shares of The National Bank of Coxsackie, both of Coxsackie, New York.

B. Federal Reserve Bank of Richmond (Adam M. Drimer, Assistant Vice President) 701 East Byrd Street, Richmond, Virginia 23219. Comments can also be sent electronically to Comments.applications@rich.frb.org:

1. American National Bankshares, Inc., Danville, Virginia; to acquire HomeTown Bankshares Corporation, and thereby indirectly acquire HomeTown Bank, both in Roanoke, Virginia, and thereby engage in mortgage lending pursuant to § 228.28 (b)(6).

In connection with this proposal, Applicant has applied to acquire at least 49 percent of HomeTown Residential Mortgage, LLC, Virginia Beach, Virginia.

C. Federal Reserve Bank of Chicago (Colette A. Fried, Assistant Vice President) 230 South LaSalle Street, Chicago, Illinois 60690-1414:

1. First Midwest Bancorp, Inc., Chicago, Illinois; to acquire 100 percent of the voting shares of Bridgeview Bancorp, Inc. and thereby indirectly acquire Bridgeview Bank Group, both of Bridgeview, Illinois.

D. Federal Reserve Bank of St. Louis (David L. Hubbard, Senior Manager) P.O. Box 442, St. Louis, Missouri 63166-2034. Comments can also be sent electronically to Comments.applications@stls.frb.org:

1. BankFirst Capital Corporation, Macon, Mississippi; to merge with FNB Bancshares of Central Alabama, Inc., and thereby indirectly acquire FNB of Central Alabama, both in Aliceville, Alabama.

E. Federal Reserve Bank of Kansas City (Dennis Denney, Assistant Vice President) 1 Memorial Drive, Kansas City, Missouri 64198-0001:

1. FSB Financial Corp., Valliant, Oklahoma; to become a bank holding company by acquiring voting share of First State Bank, Valliant, Oklahoma.

F. Federal Reserve Bank of Dallas (Robert L. Triplett III, Senior Vice President) 2200 North Pearl Street, Dallas, Texas 75201-2272:

1. Relationship Bancshares, Inc., Carrollton, Texas; to become a bank holding company by acquiring Capital Bank of Texas, Carrizo Springs, Texas.

Board of Governors of the Federal Reserve System, January 25, 2019.
Yao-Chin Chao,
Assistant Secretary of the Board.

[FR Doc. 2019-00362 Filed 1-30-19; 8:45 am]

BILLING CODE P